ENVIRONMENTAL PROTECTION AGENCY

[EPA-HQ-OAR-2022-0710; FRL-10148-01-OAR]

Access by EPA Contractors to Information Claimed as Confidential Business Information Submitted Under the Clean Air Act and Related to Various Fuel Quality Regulations

AGENCY: Environmental Protection Agency (EPA).

ACTION: Notice of contractor access to data and request for comments.

SUMMARY: The Environmental Protection Agency (EPA) plans to authorize various contractors to access information that is submitted to EPA, and which may be claimed as, or may be determined to be, confidential business information (CBI). The information is related to EPA's fuel quality programs, including fuel and fuel additive registration, the renewable fuel standard, standards applicable to gasoline and diesel fuel, and gasoline detergent additives.

DATES: Comments must be received on or before September 21, 2022.

ADDRESSES: You may send comments, identified by Docket ID No. EPA-HQ-OAR-2022-0710, by any of the following methods:

• Federal eRulemaking Portal: http://www.regulations.gov (our preferred method) Follow the online instructions for submitting comments.

• Email: a-and-r-Docket@epa.gov. Include Docket ID No. EPA-HQ-OAR-2022-0710 in the subject line of the message.

• Mail: U.S. Environmental Protection Agency, EPA Docket Center, Air Docket, Mail Code 28221T, 1200 Pennsylvania Avenue NW, Washington, DC 20460.

• Hand Delivery or Courier: EPA Docket Center, WJC West Building, Room 3334, 1301 Constitution Avenue NW, Washington, DC 20004. The Docket Center's hours of operations are 8:30 a.m.-4:30 p.m., Monday-Friday (except Federal Holidays).

Instructions: All submissions received must include the Docket ID No. for this rulemaking. Comments received may be posted without change to https://www.regulations.gov, including any personal information provided. For the full EPA public comment policy, information about CBI or multimedia submissions, and general guidance on making effective comments, please visit http://www.epa.gov/dockets/commenting-epa-dockets.

FOR FURTHER INFORMATION CONTACT: Anne-Marie Pastorkovich, Environmental Protection Agency, telephone number: 202-343-9623; email address: pastorkovich.anne-marie@epa.gov.

SUPPLEMENTARY INFORMATION:

I. Does this notice apply to me?

This action is directed to the public. However, this action may be of particular interest to parties who submit information to EPA regarding various fuel standards, such as fuel and fuel additive registration under 40 CFR part 79; the renewable fuel standard (RFS) under 40 CFR part 80; and the standards for reformulated and conventional gasoline, regulated blendstocks, diesel fuel, and detergent under 40 CFR part 1090. Parties who may be interested in this action include fuel manufacturers (such as refiners and importers), renewable fuel producers, biointermediate producers, manufacturers of fuel additives, renewable fuel exporters, parties in the fuel distribution chain, and all those who submit registrations or reports to EPA via any method or system. Existing e-registration and e-reporting systems include the EPA Central Data Exchange (CDX), DCFUEL, OTAQREG, and the EPA Moderated Transaction System (EMTS).

This Federal Register notice may be of relevance to parties that submit data and other information under the above-listed programs or systems. Since other parties may also be interested, we have not attempted to describe all the specific parties that may be affected by this action. If you have further questions regarding the applicability of this action to a party, please contact the person listed in FOR FURTHER INFORMATION CONTACT.

II. Public Participation

Submit your comments, identified by Docket ID No. EPA-HQ-OAR-2022-0710 at https://www.regulations.gov (our preferred method), or the other methods identified in the ADDRESSES section. Once submitted, comments cannot be edited or removed from the docket. EPA may publish any comment received to its public docket. Do not submit to EPA's docket at https://www.regulations.gov any information you consider to be confidential business information (CBI) or other information whose disclosure is restricted by statute. Multimedia submissions (audio, video, etc.) must be accompanied by a written comment. The written comment is considered the official comment and should include discussion of all points you wish to make. EPA will generally not consider comments or comment contents located outside of the primary submission (i.e., on the web, cloud, or other file sharing system). For additional submission methods, the full EPA public comment policy, information about CBI or multimedia submissions, and general guidance on making effective comments, please visit https://www.epa.gov/dockets/commenting-epa-dockets.

III. Description of Programs and Potential Disclosure of Information Claimed as Confidential Business Information (CBI) to Contractors

EPA's Office of Transportation and Air Quality (OTAQ) has responsibility for protecting public health and the environment by regulating air pollution from motor vehicles, engines, and the fuels used to operate them, and by encouraging travel choices that minimize emissions. To implement various Clean Air Act (CAA) programs, and to permit regulated entities flexibility in meeting regulatory requirements (e.g., compliance on average), we collect compliance reports and other information from them. Parties may claim the submitted information as CBI. Information submitted under such a claim is handled in accordance with EPA's regulations at 40 CFR part 2, subpart B and in accordance with EPA procedures, including comprehensive system security planning. When EPA has determined that disclosure of information claimed as CBI to contractors is necessary, the corresponding contract must address the appropriate use and handling of the information by the contractor and the contractor must require its personnel who require access to information claimed as CBI to sign written non-disclosure agreements before they are granted access to data.

In accordance with 40 CFR 2.301(h), we have determined that the contractors, subcontractors, and grantees (collectively referred to as “contractors”) listed below require access to CBI submitted to us under the CAA and in connection with various programs related to the regulation of fuels under 40 CFR parts 79, 80 and 1090. OTAQ collects this data to monitor compliance with CAA programs and, in many cases, to permit regulated parties flexibility in meeting regulatory requirements. Certain programs under 40 CFR parts 79, 80 and 1090 are designed to permit regulated parties an opportunity to comply on average, or to engage in transactions using various types of credits. For example, parties that participate in programs that utilize credits (e.g., the gasoline sulfur and gasoline benzene program, or renewable identification numbers, RINs, in RFS) submit information related to credit or RIN transactions. Data submitted under 40 CFR parts 79, 80 and1090 includes information related to fuel and fuel additives (e.g., chemical formulas), renewable fuels, gasoline, diesel fuel, gasoline detergent additives, and regulated blendstocks. Fuels program data is reviewed and assessed to determine the environmental performance of the programs or to plan for regulatory improvements. We are issuing this notice to inform all affected submitters of information that we plan to grant access to material that may be claimed as CBI to the contractors identified below on a need-to-know basis.

Under EPA Contract Number HHSN316201200188, VMD Systems Integrators, Incorporated (“VMD”), 4114 Legato Rd. Suite 700, Fairfax Virginia 22033-4002 provides report processing, program support, technical support and analysis and information technology services that involve access to information claimed as CBI related to 40 CFR parts 79, 80, and 1090. General Dynamics Information Technology (GDIT), 3150 Fairview Park Drive, Falls Church, Virginia, 22042, is a subcontractor of VMD performing work on this contract. GDIT, in turn, has the following subcontractors:

• Ferguson Digital Solutions Inc., 12639 Blue Sky Drive, Clarksburg Maryland 20871;

• Powersolv, Inc., 1801 Robert Fulton Drive, Suite 550, Reston, Virginia 20191;

• Potomac Economics, LTD, 9990 Fairfax Blvd., Suite 560, Fairfax, Virginia 22030; and

• Premier ITech, Inc., 8869 Grand Ave., Beulah, Colorado 81023.

Access to data by VMD and its subcontractors will begin September 26, 2022 and will continue until June 30, 2027. If the contract is extended, this access will continue for the remainder of the contract without further notice. If the contract expires prior to June 30, 2027, the access will cease at that time. If VMD employs additional subcontractors to support EPA on a regular basis or on a limited or one-time basis under the above-listed contract, and those subcontractors require access to CBI, EPA will notify interested parties of the contemplated disclosure and provide them with an opportunity to comment by publishing a notice in the Federal Register.

Under General Services Administration (GSA) Alliant Contract number GS00Q09BGD0022, FEDSIM Task Order 47QFCA-18-F-0009, Project Number: 00045-OAR-000, CGI Federal, Incorporated, 12601 Fair Lakes Circle, Fairfax, Virginia 22033-4902, provides report processing, program support, technical support and analysis and information technology services that involve access to information claimed as CBI related to 40 CFR parts 79, 80, and 1090. Access to data by CGI will begin September 26, 2022 and will continue until at least February 25, 2023. If the project date extended, this access will continue without further notice. If the project ends prior to February 25, 2023, the access will cease at that time. If CGI employs subcontractors to support EPA on a regular basis or on a limited or one-time basis under the above-listed contract, and those subcontractors require access to CBI, EPA will notify interested parties of the contemplated disclosure and provide them with an opportunity to comment by publishing a notice in the Federal Register.

EPA uses the services of Senior Environmental Employees (SEEs) whose involve access to information claimed as CBI. These SEEs are provided by the Center for Workforce Inclusion (CWI). The Grant Numbers are 84021701—Washington, DC; and Grant Number 83967201—Ann Arbor, MI. CWI is located at 8403 Colesville Road, Suite 200, Silver Spring, MD 20910. The Ann Arbor, MI Grant Number 83967201 will expire on September 30, 2022, and the work will continue with CWI under new Grant Number 8404420, starting October 1, 2022. Access to data by CWI SEEs will begin September 26, 2022 and will continue indefinitely thereafter. If the grantee providing SEEs changes, EPA will notify interested parties of the contemplated disclosure and provide them with an opportunity to comment by publishing a notice in the Federal Register.

Parties who want further information about this notice or about OTAQ's disclosure of information claimed as CBI to contactors may contact the person listed under FOR FURTHER INFORMATION CONTACT.

Byron Bunker,
Director, Compliance Division, Office of Transportation & Air Quality.

[FR Doc. 2022-20024 Filed 9-15-22; 8:45 am]

BILLING CODE 6560-50-P